GEOLOGICAL SURVEY

[GX16EF00PMEXP00]

Announcement of USGS National Geospatial Program (NGP) 3D Elevation Program (3DEP) FY16 Public Webinars in Preparation for the Upcoming Release of the USGS Broad Agency Announcement for 3D Elevation

ACTION: Notice of Webinar(s).

SUMMARY: The 3D Elevation Program (3DEP) initiative is being developed to respond to needs for high-quality topographic data and for a wide range of other three-dimensional representations of the Nation's natural and constructed features. The primary goal of 3DEP is to systematically collect enhanced elevation data in the form of high-quality light detection and ranging (lidar) data over the conterminous United States, Hawaii, and the U.S. territories, as well as interferometric synthetic aperture radar (ifsar) data over Alaska. The 3DEP initiative is based on the results of the National Enhanced Elevation Assessment (NEEA), which indicated an optimal benefit to cost ratio for Quality Level 2 (QL2) data collected over 8-years to complete national coverage. The implementation model for 3DEP is based on multi-agency partnership funding for acquisition, with the USGS acting in a lead program management role to facilitate planning and acquisition for the broader community, through the use of government contracts and partnership agreements. The annual Broad Agency Announcement (BAA) is a competitive solicitation issued to facilitate the collection of lidar and derived elevation data for the 3D Elevation Program (3DEP). Federal agencies, state and local governments, tribes, academic institutions and the private sector are eligible to submit proposals. The 3DEP public webinars will introduce this opportunity to the broadest stakeholder community possible and provide a summary of the BAA application procedures. Advanced Registration is required. National Webinars will be recorded and made available for viewing.

DATES: USGS Broad Agency Announcement (BAA) for 3D Elevation Program (3DEP) FY16 National Webinars—Notice of Public Acquisition Opportunity: August 11, 2016 3:00-4:30 ET, August 15, 2016 1:00-2:30 ET. Virtual meeting information posted on https://cms.geoplatform.gov/elevation/3DEP/PublicMeetings.

3DEP and BAA Presentations in your state: Information on upcoming 3DEP and BAA presentations in your state are posted on https://cms.geoplatform.gov/elevation/3DEP/PublicMeetings.

FOR FURTHER INFORMATION CONTACT: Diane Eldridge, 703-648-4521, deldridge@usgs.gov, 3D Elevation Program, gs_baa@usgs.gov.

SUPPLEMENTARY INFORMATION: The BAA is issued under the provisions of FAR Part 35. Proposals selected for eventual award are considered to be the result of full and open competition and in full compliance with the provision of Public Law 98-369, “The Competition in Contracting Act of 1984” and subsequent amendments. For additional information on the 3DEP program: http://nationalmap.gov/3DEP/index.html.

Dated: July 20, 2016.
Julia Fields,
Deputy Director, National Geospatial Program.

[FR Doc. 2016-17539 Filed 7-25-16; 8:45 am]

BILLING CODE 4338-11-P